FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than March 3, 2025.

A. Federal Reserve Bank of St. Louis (Holly A. Rieser, Senior Manager) P.O. Box 442, St. Louis, Missouri 63166-2034. Comments can also be sent electronically to Comments.applications@stls.frb.org:

1. The Price & Minta Ford Living Trust, Price Ford and Minta Ford, as co-trustees, all of Memphis, Tennessee; as members of the Ford Family Control Group, a group acting in concert, to acquire additional voting shares of Commercial Holding Company, Inc., and thereby indirectly acquire voting shares of Commercial Bank & Trust Company, both of Paris, Tennessee.

B. Federal Reserve Bank of Kansas City (Jeffrey Imgarten, Assistant Vice President) 1 Memorial Drive, Kansas City, Missouri 64198-0001. Comments can also be sent electronically to KCApplicationComments@kc.frb.org:

1. The Steve Burrage 2024 Succession Trust, Roberta Burrage, as trustee, and the Roberta Burrage 2024 Succession Trust, Steve Burrage, as trustee, all of Antlers, Oklahoma; to become members of the Burrage Family Control Group, a group acting in concert, to acquire voting shares of First Antlers Bancorporation, Inc., and thereby indirectly acquire voting shares of FirstBank, both of Antlers, Oklahoma. Roberta Burrage and Steve Burrage were each previously permitted by the Federal Reserve System to acquire control of voting shares of First Antlers Bancorporation, Inc. in their individual capacities.

Board of Governors of the Federal Reserve System.
Michele Taylor Fennell,
Associate Secretary of the Board.

[FR Doc. 2025-02657 Filed 2-13-25; 8:45 am]

BILLING CODE P